DEPARTMENT OF THE TREASURY

Office of Foreign Assets Control

Notice of OFAC Sanctions Action

AGENCY: Office of Foreign Assets Control, Department of the Treasury.

ACTION: Notice.

SUMMARY: The U.S. Department of the Treasury's Office of Foreign Assets Control (OFAC) is publishing an update to the identifying information of five persons currently included on OFAC's list of Specially Designated Nationals and Blocked Persons.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Action

On August 20, 2019, OFAC updated the SDN List for the following five persons, whose property and interests in property continue to be blocked under the Foreign Narcotics Kingpin Designation Act.

Individuals

1. BAYIK, Cemil; DOB 26 Feb 1955; alt. DOB 1951; alt. DOB 1954; POB Keban, Elazig, Turkey; alt. POB Hazar, Elazig, Turkey; citizen Turkey; Turkish Identificiation Number 23860719950 (Turkey) (individual) [SDNTK]

2. KALKAN, Duran (a.k.a. ERDEM, Selahattin); DOB 1954; alt. DOB 1958; POB Adana, Tufanbeyli, Turkey; alt. POB Derik, Turkey; citizen Turkey; Turkish Identificiation Number 18538165962 (Turkey) (individual) [SDNTK]

3. KARTAL, Remzi; DOB 5 May 1948; POB Van, Dibekozu, Turkey; citizen Turkey; Turkish Identificiation Number 10298480866 (Turkey) (individual) [SDNTK]

4. OK, Sabri; DOB 1958; POB Adiyaman, Turkey; citizen Turkey; Turkish Identificiation Number 15673320164 (Turkey) (individual) [SDNTK]

5. UZUN, Adem; DOB 7 Sep 1967; POB Kirsehir, Boztepe, Turkey; citizen Turkey; Turkish Identificiation Number 12203628318 (Turkey) (individual) [SDNTK]

The listings for these individuals now appear as follows:

1. BAYIK, Cemil; DOB 26 Feb 1955; alt. DOB 1951; alt. DOB 1954; POB Keban, Elazig, Turkey; alt. POB Hazar, Elazig, Turkey; citizen Turkey; Turkish Identification Number 23860719950 (Turkey) (individual) [SDNTK]

2. KALKAN, Duran (a.k.a. ERDEM, Selahattin); DOB 1954; alt. DOB 1958; POB Adana, Tufanbeyli, Turkey; alt. POB Derik, Turkey; citizen Turkey; Turkish Identification Number 18538165962 (Turkey) (individual) [SDNTK]

3. KARTAL, Remzi; DOB 5 May 1948; POB Van, Dibekozu, Turkey; citizen Turkey; Turkish Identification Number 10298480866 (Turkey) (individual) [SDNTK]

4. OK, Sabri; DOB 1958; POB Adiyaman, Turkey; citizen Turkey; Turkish Identification Number 15673320164 (Turkey) (individual) [SDNTK]

5. UZUN, Adem; DOB 7 Sep 1967; POB Kirsehir, Boztepe, Turkey; citizen Turkey; Turkish Identification Number 12203628318 (Turkey) (individual) [SDNTK]

Dated: September 6, 2019.
Gregory T. Gatjanis,
Director, Office of Foreign Assets Control.

[FR Doc. 2019-19710 Filed 9-11-19; 8:45 am]

BILLING CODE 4810-AL-P